DEPARTMENT OF COMMERCE

International Trade Administration

[A-580-880]

Heavy Walled Rectangular Welded Carbon Steel Pipes and Tubes From the Republic of Korea: Preliminary Results and Rescission of Antidumping Duty Administrative Review, in Part; 2022-2023

AGENCY: Enforcement and Compliance, International Trade Administration, Department of Commerce.

SUMMARY: The U.S. Department of Commerce (Commerce) preliminarily finds that heavy walled rectangular welded carbon steel pipes and tubes (HWRPT) from the Republic of Korea (Korea) were not sold at less than normal value during the period of review (POR) September 1, 2022, through August 31, 2023. In addition, Commerce is rescinding this administrative review in part, with respect to two companies for which the request for review was timely withdrawn. We invite interested parties to comment on these preliminary results of review.

DATES: Applicable October 8, 2024.

FOR FURTHER INFORMATION CONTACT: Samantha Kinney, AD/CVD Operations, Office II, Enforcement and Compliance, International Trade Administration, U.S. Department of Commerce, 1401 Constitution Avenue NW, Washington, DC 20230; telephone: (202) 482-2285.

SUPPLEMENTARY INFORMATION:

Background

On September 13, 2016, Commerce published in the Federal Register the antidumping duty order on HWRPT from Korea.¹ On September 6, 2023, Commerce published in the Federal Register a notice of opportunity to request an administrative review of the Order.² On November 15, 2023, based on timely requests for review, in accordance with 19 CFR 351.221(c)(1)(i), we initiated an antidumping duty administrative review of three producers and exporters of the subject merchandise.³ On November 16 and 17, 2023, respectively, NEXTEEL Co., Ltd. (NEXTEEL) and Dong-A-Steel Co., Ltd. (DOSCO) withdrew their requests for an administrative review.⁴ The sole company remaining subject to this review is HiSteel Co., Ltd. (HiSteel).

¹ See Heavy Walled Rectangular Welded Carbon Steel Pipes and Tubes from the Republic of Korea, Mexico, and the Republic of Turkey: Antidumping Duty Orders, 81 FR 62865 (September 13, 2016) (Order).

² See Antidumping or Countervailing Duty Order, Finding, or Suspended Investigation; Opportunity to Request Administrative Review and Join Annual Inquiry Service List, 88 FR 60923 (September 6, 2023).

³ See Initiation of Antidumping and Countervailing Duty Administrative Reviews, 88 FR 78298, 78300 (November 15, 2023).

⁴ See NEXTEEL's Letter, “Withdrawal of Request for Administrative Review,” dated November 16, 2023 (NEXTEEL's Withdrawal Request); see also DOSCO's Letter, “Withdrawal of Request for Administrative Review for DOSCO,” dated November 17, 2023 (DOSCO's Withdrawal Request).

On May 9, 2024, Commerce extended the deadline for the preliminary results of this review until September 25, 2025.⁵ On July 22, 2024, Commerce tolled certain deadlines in this administrative proceeding by seven days.⁶ The deadline for the preliminary results is now October 2, 2024. For a complete description of the events that followed the initiation of this review, see the Preliminary Decision Memorandum.⁷

⁵ See Memorandum, “Extension of Deadline for Preliminary Results of Antidumping Duty Administrative Review,” dated May 9, 2024.

⁶ See Memorandum, “Tolling of Deadlines for Antidumping and Countervailing Duty Proceedings,” dated July 22, 2024.

⁷ See Memorandum, “Decision Memorandum for the Preliminary Results of the Administrative Review of the Antidumping Duty Order on Heavy Walled Rectangular Welded Carbon Steel Pipes and Tubes from the Republic of Korea; 2022-2023,” dated concurrently with, and hereby adopted by, this notice (Preliminary Decision Memorandum).

Scope of the Order

The merchandise subject to the Order is certain heavy walled rectangular welded steel pipes and tubes from Korea. For a full description of the scope of the Order see Preliminary Decision Memorandum.

Methodology

Commerce is conducting this review in accordance with sections 751(a)(1)(B) and (2) of the Tariff Act of 1930, as amended (the Act). Constructed export price is calculated in accordance with section 772 of the Act. Normal value is calculated in accordance with section 773 of the Act. For a full description of the methodology underlying our conclusions, see the Preliminary Decision Memorandum. A list of topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Recission of Review, In Part

Pursuant to 19 CFR 351.213(d)(1), Commerce will rescind an administrative review, in whole or in part, if a party who requested the review withdraws the request within 90 days of the date of publication of the notice of initiation of the requested review. On November 16 and 17, 2023, respectively, NEXTEEL and DOSCO withdrew their requests for an administrative review.⁸ Because no other parties requested a review of these two companies, we are rescinding the administrative review in part, with respect to these two companies.

⁸ See NEXTEEL's Withdrawal Request; see also DOSCO's Withdrawal Request.

Preliminary Results of Review

As a result of this review, we preliminarily determine that the following weighted-average dumping margin exists for the period September 1, 2022 through August 31, 2023:

Producer/exporter | Weighted- average dumping margin (percent)
HiSteel Co., Ltd | 0.00

Disclosure and Public Comment

Commerce intends to disclose its calculations and analysis performed for these preliminary results to interested parties within five days after public announcement, or if there is no public announcement, within five days of the date of publication of this notice in the Federal Register.⁹

⁹ See 19 CFR 351.224(b).

Interested parties may submit case briefs to Commerce no later than 30 days after the date of publication of this notice.¹⁰ Rebuttal briefs, limited to issues raised in the case briefs, may be filed no later than five days after the date for filing case briefs.¹¹ Interested parties who submit case or rebuttal briefs in this proceeding must submit: (1) a table of contents listing each issue; and (2) a table of authorities.¹²

¹⁰ See 19 CFR 351.303 (for general filing requirements).

¹¹ See 19 CFR 351.309(d); see also Administrative Protective Order, Service, and Other Procedures in Antidumping and Countervailing Duty Proceedings, 88 FR 67069, 67077 (September 29, 2023) (APO and Service Procedures).

¹² See 19 351.309(c)(2) and (d)(2).

As provided under 19 CFR 351.309(c)(2) and (d)(2), in prior proceedings we have encouraged interested parties to provide an executive summary of their brief that should be limited to five pages total, including footnotes. In this administrative review, we instead request that interested parties provide at the beginning of their briefs a public, executive summary for each issue raised in their briefs.¹³ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁴

¹³ We use the term “issue” here to describe an argument that Commerce would normally address in a comment of the Issues and Decision Memorandum.

¹⁴ See APO and Service Procedures.

Pursuant to 19 CFR 351.310(c), interested parties who wish to request a hearing, must submit a written request to the Assistant Secretary for Enforcement and Compliance, filed electronically via ACCESS. Hearing requests should contain: (1) the party's name, address, and telephone number; (2) the number of participants; and (3) a list of issues to be discussed. Issues raised in the hearing will be limited to those raised in the respective case briefs. A hearing request must be received within 30 days after the date of publication of this notice. If a request for a hearing is made, Commerce intends to hold a hearing at a time and date to be determined and will notify the parties through ACCESS.¹⁵ Parties should confirm the date, time, and location of the hearing two days before the scheduled date.

¹⁵ See 19 CFR 351.310(d).

All submissions, including case and rebuttal briefs, as well as hearing requests, should be filed using ACCESS.¹⁶ An electronically-filed document must be received successfully in its entirety by ACCESS by 5:00 p.m. Eastern Time on the established deadline.

¹⁶ See 19 CFR 351.303.

Assessment Rates

Pursuant to section 751(a)(2)(A) of the Act, upon completion of the final results of this administrative review, Commerce shall determine, and U.S. Customs and Border Protection (CBP) shall assess, antidumping duties on all appropriate entries of subject merchandise covered by this review.¹⁷

¹⁷ See 19 CFR 351.212(b)(1).

For the companies for which this review is being rescinded, in part, Commerce will instruct CBP to assess antidumping duties on all appropriate entries. Antidumping duties shall be assessed at rates equal to the cash deposit rate for estimated antidumping duties required at the time of entry, or withdrawal from warehouse, for consumption, in accordance with 19 CFR 351.212(c)(1)(i). With respect to the recission of this review, in part, Commerce intends to issue assessment instructions to CBP no earlier than 35 days after the date of publication of this notice in the Federal Register.

Pursuant to 19 CFR 351.212(b)(1), if the weighted-average dumping margin for HiSteel is not zero or de minimis (i.e., less than 0.5 percent) in the final results of this review, Commerce intends to calculate importer-specific ad valorem assessment rates based on the ratio of the total amount of dumping calculated for each importer's examined sales to the total entered value of those sales. If HiSteel's weighted-average dumping margin is zero or de minimis within the meaning of 19 CFR 351.106(c)(1), or an importer-specific ad valorem assessment rate is zero or de minimis in the final results of review, we intend to instruct CBP to liquidate the appropriate entries without regard to antidumping duties.¹⁸ The final results of this administrative review shall be the basis for the assessment of antidumping duties on entries of merchandise covered by the final results of this review and for future deposits of estimated duties, where applicable.¹⁹

¹⁸ See 19 CFR 351.106(c)(2); see also Antidumping Proceedings: Calculation of the Weighted-Average Dumping Margin and Assessment Rate in Certain Antidumping Proceedings; Final Modification, 77 FR 8101, 8103 (February 14, 2012).

¹⁹ See section 751(a)(2)(C) of the Act.

For entries of subject merchandise during the POR produced by HiSteel for which it did not know that the merchandise was destined for the United States, we intend to instruct CBP to liquidate unreviewed entries at the all-others rate (i.e., 3.24 percent) in the original less than fair value (LTFV) investigation ²⁰ if there is no rate for the intermediate company(ies) involved in the transaction.²¹

²⁰ See Order, 81 FR at 62865.

²¹ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective upon publication in the Federal Register of the notice of final results of this administrative review for all shipments of the subject merchandise entered, or withdrawn from warehouse, for consumption on or after the date of publication, as provided by section 751(a)(2)(C) of the Act: (1) the cash deposit rate for HiSteel will be equal to the weighted-average dumping margin established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review, a prior review, or the LTFV investigation, but the producer is, then the cash deposit rate will be the cash deposit rate established in the completed segment for the most recent period for the producer of the merchandise; and (4) the cash deposit rate for all other producers or exporters will continue to be 3.24 percent, the all-others rate established in the LTFV investigation.²² These deposit requirements, when imposed, shall remain in effect until further notice.

²² See Order.

Final Results of Review

Unless the deadline is otherwise extended, Commerce intends to issue the final results of this administrative review, including the results of its analysis of issues raised by interested parties in the written comments, within 120 days of publication of these preliminary results in the Federal Register.²³

²³ See section 751(a)(3)(A) of the Act; see also 19 CFR 351.213(h).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act, and 19 CFR 351.221(b)(4).

Dated: October 2, 2024.
Ryan Majerus,
Deputy Assistant Secretary for Policy and Negotiations, performing the non-exclusive functions and duties of the Assistant Secretary for Enforcement and Compliance.

Appendix

List of Topics Discussed in the Preliminary Decision Memorandum

I. Summary

II. Background

III. Scope of the Order

IV. Rescission of Administrative Review, In Part

V. Discussion of the Methodology

VI. Currency Conversion

VII. Recommendation

[FR Doc. 2024-23265 Filed 10-7-24; 8:45 am]

BILLING CODE 3510-DS-P